DEPARTMENT OF COMMERCE

International Trade Administration

[A-570-892]

Carbazole Violet Pigment 23 from the People's Republic of China: Extension of Time Limit for the Final Results of Antidumping Duty Administrative Review

AGENCY: Import Administration, International Trade Administration, Department of Commerce.

EFFECTIVE DATE: May 10, 2010.

FOR FURTHER INFORMATION CONTACT: Deborah Scott or Robert James, AD/CVD Operations, Office 7, Import Administration, International Trade Administration, U.S. Department of Commerce, 14th Street and Constitution Avenue, NW, Washington, DC 20230; telephone: (202) 482-2657 or (202) 482-0649, respectively.

SUPPLEMENTARY INFORMATION: On December 29, 2009, the Department of Commerce (the Department) published the preliminary results of the administrative review of the antidumping duty order on carbazole violet pigment 23 (CVP 23) from the People's Republic of China for the period December 1, 2007 through November 30, 2008. See Carbazole Violet Pigment 23 From the People's Republic of China: Preliminary Results of Antidumping Duty Administrative Review, 74 FR 68780 (December 29, 2009) (Preliminary Results). The final results of this administrative review were originally due no later than April 28, 2010. As explained in the memorandum from the Deputy Assistant Secretary for Import Administration, the Department has exercised its discretion to toll deadlines for the duration of the closure of the Federal Government from February 5 through February 12, 2010. Thus, the deadline for issuing the final results of this administrative review has been extended by seven days, until May 5, 2010. See Memorandum to the Record from Ronald Lorentzen, DAS for Import Administration, regarding “Tolling of Administrative Deadlines As a Result of the Government Closure During the Recent Snowstorm,” dated February 12, 2010.

Extension of Time Limits for Final Results

Section 751(a)(3)(A) of the Tariff Act of 1930, as amended (the Act), requires the Department to issue the final results of an administrative review within 120 days after the date on which the preliminary results are published. However, if it is not practicable to complete the review within this time period, section 751(a)(3)(A) of the Act allows the Department to extend the time limit for the final results up to 180 days after the date on which the preliminary results are published.

The Department finds that it is not practicable to complete this review by May 5, 2010 because the Department requires additional time to consider issues related to surrogate valuation. Consequently, in accordance with section 751(a)(3)(A) of the Act, the Department is extending the time limit for completion of the final results of this administrative review by 45 days to June 19, 2010. As this date falls on a Saturday, the final results will be due on the next business day, which is June 21, 2010. See Notice of Clarification: Application of “Next Business Day” Rule for Administrative Determination Deadlines Pursuant to the Tariff Act of 1930, As Amended, 70 FR 24533 (May 10, 2005).

This notice is published in accordance with sections 751(a)(1) and 777(i)(1) of the Act.

Dated: May 4, 2010.
John M. Andersen,
Acting Deputy Assistant Secretary for Antidumping and Countervailing Duty Operations.

[FR Doc. 2010-10993 Filed 5-7-10; 8:45 am]

BILLING CODE 3510-DS-S